DEPARTMENT OF ENERGY

Federal Energy Regulatory Commission

[Docket No. ER02-732-000]

Western Systems Coordinating Council; Western Regional Transmission Association; Southwest Regional Transmission Association; Notice of Filing

January 15, 2002.

Take notice that on December 19, 2001, the Western Systems Coordinating Council, Western Regional Transmission Association, and the Southwest Regional Transmission Association (collectively Applicants) tendered for filing with the Federal Energy Regulatory Commission (Commission) an amendment to the May 3, 2001 Petition for Declaratory Order and alternative Request To Transfer Programs to the Western Electricity Coordinating Council (WECC).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Comment Date: January 25, 2002.
Linwood A. Watson, Jr.,
Acting Secretary.

[FR Doc. 02-1465 Filed 1-18-02; 8:45 am]

BILLING CODE 6717-01-P